DEPARTMENT OF COMMERCE

National Oceanic and Atmospheric Administration

RIN 0648-XF263

Fisheries of the Northeastern United States; Atlantic Mackerel, Squid, and Butterfish Fisheries; Notice of Intent To Prepare an Environmental Impact Statement; Scoping Process; Notification of Scoping Meetings; Request for Comments

AGENCY: National Marine Fisheries Service (NMFS), National Oceanic and Atmospheric Administration (NOAA), Commerce.

ACTION: Notice; intent to prepare an environmental impact statement; scoping process; notification of scoping meetings; requests for comments.

SUMMARY: The Mid-Atlantic Fishery Management Council announces its intent to prepare, in cooperation with NMFS, an environmental impact statement in accordance with the National Environmental Policy Act. An environmental impact statement may be necessary to assess potential effects on the human environment of an amendment to manage Atlantic chub mackerel (Scomber colias) as a stock in the Atlantic Mackerel, Squid, and Butterfish Fishery Management Plan. This notice announces a public process for determining the scope of issues to be addressed and for identifying significant issues related to Council management of Atlantic chub mackerel, including setting annual catch limits, accountability measures, and other conservation and management measures required by the Magnuson-Stevens Fishery Conservation and Management Act for stocks in the fishery.

DATES: Written comments must be received on or before May 31, 2017.

ADDRESSES: Written comments may be sent by any of the following methods:

• Email to the following address: nmfs.gar.chubmackerel@noaa.gov;

• Mail to Dr. Christopher M. Moore, Executive Director, Mid-Atlantic Fishery Management Council, 800 North State Street, Suite 201, Dover, Delaware 19901. Mark the outside of the envelope “Chub Mackerel Amendment Scoping Comments”;

• Fax to (302) 674-5399; or

• Verbally or in writing at six public scoping meetings.

More information on this amendment is available at http://www.mafmc.org/actions/chub-mackerel-amendment. A scoping document will be posted to this site on or around April 18, 2017.

FOR FURTHER INFORMATION CONTACT: Dr. Christopher M. Moore, Mid-Atlantic Fishery Management Council, 800 North State Street, Suite 201, Dover, DE 19901, (telephone 302-674-2331).

SUPPLEMENTARY INFORMATION:

Background

The Mid-Atlantic Fishery Management Council manages Atlantic mackerel, longfin squid and Illex squid throughout the U.S. east coast from Maine through Florida and butterfish from Maine through Cape Hatteras, North Carolina, under the Atlantic Mackerel, Squid, and Butterfish Fishery Management Plan (FMP). Current measures include limited entry, permit and reporting requirements, catch limits, possession limits, and gear restrictions, among others.

A targeted commercial chub mackerel fishery developed in the Mid-Atlantic and Southern New England in recent years, averaging 2.86 million lb of landings over 2013-2015. In August 2016, the Council approved an annual landings limit and a possession limit for chub mackerel as part of the Unmanaged Forage Fish Omnibus Amendment. Rulemaking to implement these measures is currently being developed by NMFS. These measures would be the first regulations for chub mackerel fisheries off the U.S. Atlantic coast, if approved by the Secretary of Commerce. As proposed, these measures are temporary, and would expire three years after implementation. This is because the Council intends to develop alternatives for longer-term management of chub mackerel fisheries by integrating this species into the Atlantic Mackerel, Squid, and Butterfish FMP.

The Council initiated an amendment to consider managing Atlantic chub mackerel as a “stock in the fishery” under the Atlantic Mackerel, Squid, and Butterfish FMP in December 2016 when they approved their 2017 Implementation Plan. The Magnuson-Stevens Fishery Conservation and Management Act (Magnuson-Stevens Act) lists several required provisions of FMPs for stocks that are in the fishery, including:

• Annual catch limits (ACLs) specified in relation to acceptable biological catch limits recommended by the Council's Scientific and Statistical Committee;

• Accountability measures for when the ACLs are exceeded;

• Essential fish habitat designations; and

• Definition of the management unit.

The Council may also consider management measures not explicitly required by the Magnuson-Stevens Act, but which may be necessary to prevent overfishing and promote long-term stability of Atlantic chub mackerel fisheries. These measures could include, but are not limited to:

• Permit requirements;

• Limited access;

• Commercial and/or recreational annual catch targets;

• Commercial quotas;

• Recreational harvest limits;

• Possession limits;

• Commercial and/or recreational minimum fish size restrictions;

• Gear restrictions;

• Reporting requirements; and

• Commercial and/or recreational fishing seasons.

This amendment will affect targeted commercial chub mackerel fisheries and, depending on the management measures considered, may also affect fisheries that catch chub mackerel incidentally (e.g., the Illex squid fishery) and recreational chub mackerel fisheries.

Public Comment

The Council seeks comments on the scope of alternatives to be considered in this amendment, as well as general comments or concerns relating to Council management of Atlantic chub mackerel. In addition to the public comment period provided for in this announcement, the Council will also hold multiple public scoping hearings on this amendment. The dates and locations of these hearings are listed below. The public will have the opportunity to provide additional comments during these hearings. After the scoping process is completed, the Council will begin development of alternatives for chub mackerel management measures, and may prepare an environmental impact statement (EIS) to analyze the impacts of the range of alternatives. If NMFS determines that the management alternatives under consideration are not expected to have significant impacts on the human environment, the Council and NMFS may prepare an environmental assessment (EA) in place of an EIS. This determination will depend on the scope of issues raised and the alternatives developed. Information obtained during the scoping process will be used to develop either an EIS or an EA as appropriate. If an EIS is developed to support this action, the Council will hold future public hearings to receive comment on the draft amendment and on the analysis of its impacts presented in the Draft EIS.

Scoping Hearings

Six scoping meetings to facilitate public comment will be held on the following dates and locations:

1. Thursday, May 4, 2017. 7:00-9:00 p.m. Kingsborough Community College, Room V-219. 2001 Oriental Boulevard, Brooklyn, NY 11235. Telephone: 718-368-5000.

2. Monday, May 15, 2017. 6:00-7:30 p.m. Virginia Marine Resources Commission 4th Floor Meeting Room. 2600 Washington Avenue, Newport News, VA 23607. Telephone: 757-247-2200.

3. Tuesday, May 16, 2017. 6:30-8:00 p.m. Princess Royale Oceanfront Resort & Conference Center. 9100 Coastal Highway, Ocean City, Maryland 21842. Telephone: 410-524-7777.

4. Tuesday, May 23, 2017. 6:30-8:00 p.m. Congress Hall Hotel. 200 Congress Place, Cape May, NJ 08204. Telephone: 888-944-1816.

5. Wednesday, May 24, 2017. 6:30-8:00 p.m. 215 South Ferry Road, Narragansett, RI 02882. Telephone: 401-874-6222.

6. Wednesday, May 25, 2017. 6:00-7:30 p.m. Webinar. Audio and visual access available at http://mafmc.adobeconnect.com/chubscoping/. The webinar can be accessed via phone only by calling 1-800-832-0736, Room #5068871.

The scoping hearings are accessible to people with disabilities. Requests for sign language interpretation or other auxiliary aid should be directed to M. Jan Saunders (302-674-2331, ext. 18) at least 5 days prior to the meeting date.

Authority: 16 U.S.C. 1801 et seq.

Dated: March 16, 2017.
Emily H. Menashes,
Acting Director, Office of Sustainable Fisheries, National Marine Fisheries Service.

[FR Doc. 2017-05601 Filed 3-21-17; 8:45 am]

BILLING CODE 3510-22-P